DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistant, at the address shown below, not later than May 20, 2004.

Interested persons are invited to submit written comments regarding the subject matter of the investigations to the Director, Division of Trade Adjustment Assistance, at the address shown below, not later than May 20, 2004.

The petitions filed in this case are available for inspection at the Office of the Director, Division of Trade Adjustment Assistance, Employment and Training Administration, U.S. Department of Labor, Room C-5311, 200 Constitution Avenue, NW., Washington, DC 20210.

Signed at Washington, DC this 28th day of April, 2004.
Timothy Sullivan,
Director, Division of Trade Adjustment Assistance.

APPENDIX
[Petitions instituted between 04/05/2004 and 04/09/2004]
TA-W | Subject firm (petitioners) | Location | Date of institution | Date of petition
54,657 | Sterling and Adams Bentwood (Comp) | Thomasville, NC | 04/05/2004 | 03/22/2004
54,658 | Whiting Manufacturing Co (Comp) | Hazel Green, KY | 04/05/2004 | 04/01/2004
54,659 | Sara Lee Branded Apparel-USC (VA) | Martinsville, VA | 04/05/2004 | 03/22/2004
54,660 | Rotary International (Wkrs) | Evanston, IL | 04/05/2004 | 04/01/2004
54,661 | Gordon Garment Company (Comp) | Bristol, VA | 04/05/2004 | 03/23/2004
54,662 | Altek, Inc. (Comp) | Liberty Lake, WA | 04/05/2004 | 04/01/2004
54,663 | New Castle Battery Mfg. Co. (Wkrs) | New Castle, PA | 04/05/2004 | 04/02/2004
54,664 | Slarama, Inc., (Comp) | New Bedford, MA | 04/05/2004 | 04/01/2004
54,665 | Iomega Corporation (Comp) | Roy, UT | 04/05/2004 | 03/26/2004
54,666 | TDK Electronics Corp. (Comp) | Anaheim, CA | 04/05/2004 | 03/31/2004
54,667 | Terra Nitrogen Corp. (AR) | Blytheville, AR | 04/05/2004 | 04/02/2004
54,668 | Damy Industries (Comp) | Athens, TN | 04/06/2004 | 03/30/2004
54,669 | American Meter Company (Comp) | Erie, PA | 04/06/2004 | 04/02/2004
54,670 | Pioneer Americas (USWA) | Henderson, NV | 04/06/2004 | 03/30/2004
54,671 | Steelcase, Inc. (Comp) | New Paris, IN | 04/06/2004 | 04/05/2004
54,672 | Robert Bosch Tool Corp. (Comp) | Leitchfield, KY | 04/06/2004 | 03/29/2004
54,673 | Baronet Litho, Inc. (Comp) | Johnston, NY | 04/06/2004 | 03/11/2004
54,674 | Major League, Inc. (Comp) | Mount Airy, NC | 04/06/2004 | 03/24/2004
54,675 | Royal Vendors (Wkrs) | Kearneysville, WV | 04/06/2004 | 03/15/2004
54,676 | Otis Elevator (IUE) | Bloomington, IN | 04/06/2004 | 03/26/2004
54,677 | Whiting Manufacturing Co. (USWA) | East Butler, PA | 04/06/2004 | 03/31/2004
54,678 | C and L Custom Tooling (Comp) | Clackamas, OR | 04/06/2004 | 03/30/2004
54,679 | Magnum Plastics (CO) | Erie, CO | 04/07/2004 | 04/06/2004
54,680 | Grand Valley Manufacturing (Wkrs) | Titusville, PA | 04/07/2004 | 03/24/2004
54,681 | 5 B's Inc. (Comp) | Barnesville, OH | 04/07/2004 | 04/06/2004
54,682 | Sony Electronics (Wkrs) | Mt. Pleasant, PA | 04/07/2004 | 03/31/2004
54,683 | USA Knit, Inc. (Comp) | Ft. Payne, AL | 04/07/2004 | 04/05/2004
54,684 | Keane, Inc. (Comp) | Montpelier, VT | 04/07/2004 | 03/31/2004
54,685 | Amerex Corp. (NJ) | Scotch Plaines, NJ | 04/07/2004 | 04/06/2004
54,686 | L and L Knitting (Comp) | Fort Payne, AL | 04/07/2004 | 04/06/2004
54,687 | Rehau, Inc. (Comp) | Springfield, VT | 04/07/2004 | 04/01/2004
54,688 | Jabil Circuit, Inc. (MI) | Auburn Hills, MI | 04/08/2004 | 04/01/2004
54,689 | OWT Industries, Inc. (Comp) | Pickens, SC | 04/08/2004 | 04/01/2004
54,690 | Siemens Dematic (Wkrs) | Grand Rapids, MI | 04/08/2004 | 04/01/2004
54,691 | Rags, Inc. (Wkrs) | Albemarle, NC | 04/08/2004 | 03/31/2004
54,692 | Bank of New York (The) (Wkrs) | New York, NY | 04/08/2004 | 03/31/2004
54,693 | ITW Chemtronics (Wkrs) | Kennasaw, GA | 04/08/2004 | 04/07/2004
54,694 | Hewlett Packard (CA) | Cupertino, CA | 04/08/2004 | 04/02/2004
54,695 | C-Cor.net (Wkrs) | Meriden, CT | 04/08/2004 | 02/27/2004
54,696 | New Frontier Clothing Co. (Comp) | Dallas, TX | 04/08/2004 | 02/10/2004
54,697 | Plastic Molding Technology (CT) | Seymour, CT | 04/09/2004 | 04/08/2004
54,698 | Deput Casting (Comp) | N. Brunswick, NJ | 04/09/2004 | 04/08/2004
54,699 | Coyuchi, Inc. (Comp) | Piedmont, SC | 04/09/2004 | 03/26/2004
54,700 | Detriot Tool and Engineering (Wkrs) | Lebanon, MO | 04/09/2004 | 04/07/2004
54,701 | Viratec Thin Films (Comp) | Faribault, MN | 04/09/2004 | 04/07/2004
54,702 | Travelocity (Wkrs) | Clintwood, VA | 04/09/2004 | 04/02/2004
54,703 | Standard Steel, LLC (Wkrs) | Latrobe, PA | 04/09/2004 | 04/08/2004
Petitions Instituted Between 04/12/2004 and 04/16/2004
54,704 | West Telemarketing Outbound (State) | Fort Smith, AR | 04/12/2004 | 04/09/2004
54,705 | Ozark Iron Works (State) | Calico Rock, AR | 04/12/2004 | 04/09/2004
54,706 | Kardex Systems Inc. (Comp) | Reno, OH | 04/12/2004 | 04/02/2004
54,707 | Quincy Products (Wkrs.) | Quincy, MI | 04/12/2004 | 04/08/2004
54,708 | Novellus System Inc. (Wkrs.) | San Jose, CA | 04/12/2004 | 03/30/2004
54,709 | Summitville Tiles, Inc. (Comp) | Minerva, OH | 04/13/2004 | 04/13/2004
54,710 | Veltri Metal Products, Inc. (Comp) | Celina, TN | 04/13/2004 | 04/12/2004
54,711 | Stocker Yale (Wkrs) | Salem, NH | 04/13/2004 | 04/12/2004
54,712 | Germainhardt Co., Inc. (IBT) | Elkhart, IN | 04/13/2004 | 04/12/2004
54,713 | Indiana Die Molding, LLC (Comp) | Ft. Wayne, IN | 04/13/2004 | 04/08/2004
54,714 | CarboMinerals LP (Wkrs) | Wrightstown, WI | 04/13/2004 | 03/31/2004
54,715 | Goodrich Aviation Technical Services (Wkrs) | Everett, WA | 04/13/2004 | 04/08/2004
54,716 | Kellogg Crankshaft (UAW) | Jackson, MI | 04/14/2004 | 04/06/2004
54,717 | Harris Interactive (Wkrs) | Rochester, NY | 04/14/2004 | 04/02/2004
54,718 | Yazoo Industries (Comp) | Yazoo City, MS | 04/14/2004 | 04/07/2004
54,719 | Shafer Electronics Co. (MN) | Shafer, MN | 04/14/2004 | 04/12/2004
54,720 | Texon USA (MA) | Russell, MA | 04/14/2004 | 04/12/2004
54,721 | Sulzer Process Pumps (Wkrs) | Easley, SC | 04/14/2004 | 03/18/2004
54,722 | Stefanie Fashions (NJ) | Jersey City, NJ | 04/15/2004 | 04/14/2004
54,723 | Somerset Consolidated Industries (Wkrs) | New Castle, PA | 04/15/2004 | 04/14/2004
54,724 | All About Lollipops, Inc. (Wkrs) | Boise, ID | 04/15/2004 | 04/09/2004
54,725 | Pristech Products (04/12/) | San Antonio, TX | 04/15/2004 | 04/12/2004
54,726 | Sanford Business to Business (USWA) | Janesville, WI | 04/15/2004 | 04/14/2004
54,727 | Tyco Healthcare Kendall (USWA) | Argyle, NY | 04/15/2004 | 04/14/2004
54,728 | Weiser Lock Division of Black and Decker (Comp) | Tucson, AZ | 04/16/2004 | 03/18/2004
54,729 | Piedmont Industries (Wkrs) | Hickory, NC | 04/16/2004 | 04/08/2004
54,730 | Manpower (IA) | Clinton, IA | 04/16/2004 | 04/15/2004
54,731 | Tecumseh Products (Wkrs) | Verona, MS | 04/16/2004 | 04/14/2004
54,732 | MCI (Wkrs) | Niles, OH | 04/16/2004 | 04/14/2004
54,733 | Bridges Hosiery Mill (Wkrs) | Hildebran, NC | 04/16/2004 | 03/23/2004
54,734 | RR Donnelley (Comp) | Portland, OR | 04/16/2004 | 04/15/2004
54,735 | Trent Tube (Comp) | Carrollton, GA | 04/16/2004 | 04/15/2004
54,736 | Tee Lays Mfg. Co., Inc. (Comp) | Florence, AL | 04/16/2004 | 04/15/2004

[FR Doc. 04-10543 Filed 5-7-04; 8:45 am]

BILLING CODE 4510-30-M